NATIONAL FOUNDATION ON THE ARTS AND THE HUMANITIES

Meeting of National Council on the Humanities

AGENCY: National Endowment for the Humanities.

ACTION: Notice of meeting.

SUMMARY: Pursuant to the Federal Advisory Committee Act, notice is hereby given that the National Council on the Humanities will meet to advise the Chairman of the National Endowment for the Humanities (NEH) with respect to policies, programs and procedures for carrying out his functions; to review applications for financial assistance under the National Foundation on the Arts and Humanities Act of 1965 and make recommendations thereon to the Chairman; and to consider gifts offered to NEH and make recommendations thereon to the Chairman.

DATES: The meeting will be held on Thursday, March 5, 2015, from 10:30 until adjourned, and Friday, March 6, 2015, from 9 a.m. until adjourned.

ADDRESSES: The meeting will be held at Constitution Center, 400 7th Street SW., Washington, DC 20506. See SUPPLEMENTARY INFORMATION section for room numbers.

FOR FURTHER INFORMATION CONTACT: Lisette Voyatzis, Committee Management Officer, 400 7th Street SW., 4th Floor, Washington, DC 20506; (202) 606-8322; evoyatzis@neh.gov. Hearing-impaired individuals who prefer to contact us by phone may use NEH's TDD terminal at (202) 606-8282.

SUPPLEMENTARY INFORMATION: The National Council on the Humanities is meeting pursuant to the National Foundation on the Arts and Humanities Act of 1965 (20 U.S.C. 951-960, as amended). The Committee meetings of the National Council on the Humanities will be held on March 5, 2015, as follows: the policy discussion session (open to the public) will convene at 10:30 a.m. until approximately 11:30 a.m., followed by the discussion of specific grant applications and programs before the Council (closed to the public) from 11:30 a.m. until 12:30 p.m.

Digital Humanities: Room P002.

Education Programs: Conference Room C.

Preservation and Access: Room P003.

Public Programs & Federal/State Partnership: Room 4002.

Research Programs: Room 2002.

In addition, the Jefferson Lecture Committee (closed to the public) will meet from 2 p.m. until 3 p.m. in Room 4002.

The plenary session of the National Council on the Humanities will convene on March 6, 2015, at 9 a.m. in the Conference Center at Constitution Center. The agenda for the morning session (open to the public) will be as follows:

A. Minutes of the Previous Meeting

B. Reports

1. Chairman's Remarks

2. Deputy Chairman's Remarks

3. Presentation by Jeff Rosen, President and CEO of the National Constitution Center

4. Congressional Affairs Report

5. Budget Report

6. Reports on Policy and General Matters

a. Digital Humanities

b. Education Programs

c. Preservation and Access

d. Public Programs

e. Federal/State Partnership

f. Research Programs

g. Jefferson Lecture

The remainder of the plenary session will be for consideration of specific applications and therefore will be closed to the public.

As identified above, portions of the meeting of the National Council on the Humanities will be closed to the public pursuant to sections 552b(c)(4), 552b(c)(6) and 552b(c)(9)(b) of Title 5 U.S.C., as amended. The closed sessions will include review of personal and/or proprietary financial and commercial information given in confidence to the agency by grant applicants, and discussion of certain information, the premature disclosure of which could significantly frustrate implementation of proposed agency action. I have made this determination pursuant to the authority granted me by the Chairman's Delegation of Authority to Close Advisory Committee Meetings dated July 19, 1993.

Please note that individuals planning to attend the public sessions of the meeting are subject to security screening procedures. If you wish to attend any of the public sessions, please inform NEH as soon as possible by contacting Ms. Katherine Griffin at (202) 606-8322 or kgriffin@neh.gov. Please also provide advance notice of any special needs or accommodations, including for a sign language interpreter.

Dated: February 10, 2015.
Lisette Voyatzis,
Committee Management Officer.

[FR Doc. 2015-03156 Filed 2-13-15; 8:45 am]

BILLING CODE 7536-01-P